DEPARTMENT OF HEALTH AND HUMAN SERVICES

Administration for Children and Families

Submission for OMB Review; Comment Request

Title: Native Language Preservation and Maintenance Grant Application Template Pilot (Funding Application Submission Tool (F.A.S.T. form))

OMB No.:

Description: The proposed F.A.S.T. form is intended to be used by applicants in the Administration for Native Americans' Native American Language Preservation and Maintenance grant competition in FY 2016. The F.A.S.T. form is proposed to be piloted as a consolidated and streamlined pre-formatted electronic application form that is user-friendly and has an interactive interface providing structure and clarity for applicants. The proposed F.A.S.T. form is not intended to replace the Funding Opportunity Announcement (FOAs) which will still function as the full text of all funding opportunities for which applications are sought and considered by the Administration for Native Americans.

The proposed F.A.S.T. form will be used in a pilot capacity in just one Administration for Native Americans' discretionary program areas: Native American Language Preservation and Maintenance. All applicants applying for funding in that program area will be required to use the F.A.S.T. form during the pilot competition proposed for FY16 unless they request and receive approval to submit a paper application. By using the F.A.S.T. form no applicant will be required to provide any information beyond what is already required by the FOA. Additionally, free training and technical assistance will be available to all applicants on use of the F.A.S.T. form.

ANA intends to use the project proposals submitted via the F.A.S.T. form to make funding decisions for Native American Language Preservation and Maintenance grant awards made in the FY 2016 pilot year. In addition, ANA will solicit feedback from applicants and panel reviewers to obtain feedback on the results, outcomes, and their recommendations regarding the F.A.S.T. form as a user friendly method of applying for funding opportunities. If the pilot is successful in making it easier for applicants to apply, ANA will consider potentially expanding use of the F.A.S.T. form to all Administration for Native Americans' discretionary funding areas in subsequent years.

Respondents: 40.

Annual Burden Estimates
Instrument | Number of respondents | Number of responses per respondent | Average burden hours per response | Total burden hours
F.A.S.T. form | 40 | 28 | .50 | 14

Estimated Total Annual Burden Hours: 560.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-26320 Filed 10-15-15; 8:45 am]

BILLING CODE 4184-01-P